DEPARTMENT OF COMMERCE

National Oceanic and Atmospheric Administration

RIN 0648-XD822

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Habitat and Environmental Protection (Habitat) Advisory Panel (AP) in N. Charleston, SC. The meeting is open to the public.

DATES: The meeting will be held from 9 a.m. until 4:30 p.m. on Tuesday, April 7, 2015, and from 9 a.m. until 4:30 p.m. Wednesday, April 8, 2015.

ADDRESSES:

Meeting address: The meeting will be held at the Crowne Plaza Hotel, 4381 Tanger Outlet Blvd., North Charleston, SC 29418; telephone: (843) 744-4422; fax: (843) 744-4472.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; email: kim.iverson@safmc.net.

SUPPLEMENTARY INFORMATION: The Habitat AP will work on updating existing and developing new Council Essential Fish Habitat (EFH) Policy Statements and providing guidance on continued development of Fishery Ecosystem Plan II. The AP will receive presentations from Bureau of Ocean Energy Management (BOEM) Office of Renewable Energy Programs and BOEM Outer Continental Shelf/Geological and Geophysical Programs on mapping, characterization, impact analyses and planning efforts in the South Atlantic Region.

The AP will subsequently discuss redrafting the EFH Policy Statement on Energy Exploration, Development and Transportation. The AP will provide recommendations to the Council for consideration.

Special Accommodations

The meeting is physically accessible to people with disabilities. Requests for auxiliary aids should be directed to the Council office (see ADDRESSES) 3 days prior to the meeting.

Note: The times and sequence specified in this agenda are subject to change.

Dated: March 17, 2015.
Tracey L. Thompson,
Acting Deputy Director, Office of Sustainable Fisheries, National Marine Fisheries Service.

[FR Doc. 2015-06436 Filed 3-20-15; 8:45 am]

BILLING CODE 3510-22-P